DEPARTMENT OF AGRICULTURE

Food and Nutrition Service

Agency Information Collection Activities: Proposed Collection; Comment Request—Special Nutrition Program Operations Study (SNPOS)

AGENCY: Food and Nutrition Service (FNS), United States Department of Agriculture (USDA).

ACTION: Notice and request for comments.

SUMMARY: In accordance with the Paperwork Reduction Act of 1995, this notice invites the the general public and other public agencies to comment on this proposed information collection. This collection is a revision of a currently approved collection for the Special Nutrition Program Operations Study.

DATES: Written comments on this notice must be received by December 2, 2013.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Written comments may be sent to: Allison Magness, Social Science Research Analyst, Office of Policy Support, Food and Nutrition Service, USDA, 3101 Park Center Drive, Room 1014, Alexandria, VA 22302. Comments may also be submitted via fax to the attention of Allison Magness at 703-305-2576 or via email to Allison.Magness@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: To request more information on the proposed project or to obtain a copy of the data collection plans, contact Allison Magness, Social Science Research Analyst, Office of Policy Support, Food and Nutrition Service, USDA, 3101 Park Center Drive, Room 1014, Alexandria, VA 22302; Fax: 703-305-2576; Email: Allison.Magness@fns.usda.gov.

SUPPLEMENTARY INFORMATION: Title: Special Nutrition Program Operations Study.

Form Number: N/A.

OMB Number: 0584-0562.

Expiration Date: 04/30/2016.

Type of Request: Revision of a currently approved collection.

Abstract: The U.S. Department of Agriculture, Food and Nutrition Service (FNS), is currently conducting a study to collect information needed to address current policy issues related to the Special Nutrition Programs. The study is designed to collect data from a nationally representative sample of public School Food Authorities (SFAs) and all Child Nutrition (CN) State Agencies. Data collection for the Special Nutrition Program Operations Study—Year 2 will conclude in September 2013; the existing approved burden hours for Year 2 are 5,094. Special Nutrition Program Operations Study—Year 3 will include the third year of data collection for School Year (SY) 2013/14. Year 3 will add an additional 1,956 burden hours to the existing collection. The reduction in burden hours for Year 3 is due to Year 3 not including the on-site data collection that was included in Year 2.

The study will provide general descriptive information on the characteristics of the school-based CN programs necessary for the preparation of program budgets, data on various aspects of the program administration to inform program policy and regulations, as well as data to identify areas in need of technical assistance and training. Specifically, this study will help FNS obtain:

General descriptive data on the CN programs characteristics to help FNS respond to questions about the nutrition programs in schools;

Data related to program administration for designing and revising program regulations, managing resources, and reporting requirements; and

Data related to program operations to help FNS develop and provide training and technical assistance for SFAs and State Agencies responsible for administering the CN programs.

The activities to be undertaken subject to this notice include:

Conducting a multi-modal (e.g. paper, Web, and telephone) survey of approximately 1,900 SFA Directors.

Conducting a paper survey of all 56 State Agency CN Directors.

Affected Public: State, Local and Tribal Governments.

Estimated Number of Respondents: The total estimated number of respondents is 1,956. This includes 1,900 SFA Directors and 56 State Agency CN Directors.

Estimated Number of Responses per Respondent: Once annually.

Estimated Total Annual Responses: 1,956.

Estimated Time per Response: Public reporting burden for this collection of information is estimated to average sixty (60) minutes per Self Administered Survey for the SFA Directors and the State Agency CN Directors (this includes 30 minutes for data gathering and 30 minutes to respond to the questionnaire).

Estimated Total Annual Burden on Respondents: The annual reporting burden is estimated at 6605.46 hours. See the table below for estimated total annual burden for each type of respondent.

Affected public | Data collection activity | Respondents | Estimated number of respondents | Frequency of response | Total annual responses | Average burden hours per response | Total annual burden estimate (hours)
Local and Tribal | Self Administered Paper/Web/Telephone Survey | Non-Responders | 475 | 1 | 475 | 0.07 | 33.25
|  | School Food Authority Directors | 1,425 | 1 | 1,425 | 1 | 1,425
State | Self Administered Paper Survey | Non-Responders | 3 | 1 | 3 | 0.07 | 0.21
|  | State Agency Child Nutrition Directors | 53 | 1 | 53 | 1 | 53
TOTAL—YEAR 3 |  |  | 1,956 | 1 | 1,956 | 0.7727 | 1,511.46
TOTAL—YEAR 2 (Existing Burden) |  |  | 1,938 | 4.9355 | 9,565 | .5346 | 5,094
TOTAL BURDEN FOR #0584-0562 |  |  | 1,956 | 5.8901 | 11,521 | .5733 | 6605.46

Dated: September 25, 2013.
Audrey Rowe,
Administrator, Food and Nutrition Service.

[FR Doc. 2013-24143 Filed 10-2-13; 8:45 am]

BILLING CODE 3410-30-P